DEPARTMENT OF AGRICULTURE

Forest Service

Information Collection; Perceptions of Risk, Trust, Responsibility, and Management Preferences Among Fire-Prone Communities on the San Bernardino National Forest

AGENCY: Forest Service, USDA.

ACTION: Notice; request for comment.

SUMMARY: In accordance with the Paperwork Reduction Act of 1995, the Forest Service is seeking comments from all interested individuals and organizations on the new information collection, Perceptions of Risk, Trust, and Responsibility, and Management Preferences Among Fire-Prone Communities on the San Bernardino National Forest.

DATES: Comments must be received in writing on or before August 6, 2004, to be assured of consideration. Comments received after that date will be considered to the extent practicable.

ADDRESSES: Comments concerning this notice should be addressed to Patricia L. Winter, Pacific Southwest Research Station, Forest Service, USDA, 4955 Canyon Crest Drive, Riverside, CA 92507.

Comments also may be submitted via facsimile to (909) 680-1501 or by e-mail to: pwinter@fs.fed.us.

The public may inspect comments received at 4955 Canyon Crest Drive, Riverside, CA 92507; building one reception during normal business hours. Visitors are encouraged to call ahead to (909) 680-1500 to facilitate entry to the building.

FOR FURTHER INFORMATION CONTACT: Patricia L. Winter, Pacific Southwest Research Station, USDA FS, (909) 680-1557.

SUPPLEMENTARY INFORMATION:

Title: Perceptions of Risk, Trust, Responsibility, and Management Preferences Among Fire-Prone Communities on the San Bernardino National Forest.

OMB Number: 0596-New.

Expiration Date of Approval: N/A.

Type of Request: New.

Abstract: Forest Service and university researchers will contact community residents within or adjacent to the San Bernardino National Forest. Through those contacts they will evaluate concern about fire and fire risk, knowledge about fire, values focused on fire management, trust, objectives and alternatives for fire management, personal experiences with fire, stressors associated with fire and fire risk, responsibility and accomplishments for fire management, future orientation, and sociodemographics. The results will help the researchers improve their ability to provide information to natural resource managers on public perceptions of fire and fire management. To gather the information, residents in four communities within or adjacent to the San Bernardino National Forest will be contacted through mailed correspondence, inviting their participation in a focus group study. Willing or interested parties will contact the researcher to be scheduled into one of two sessions in their community. Those agreeing to participate will be involved in a focus group discussion and will complete a self-administered survey.

The information will be collected and analyzed by a Forest Service researcher and analyst/technicians, and a researcher at a cooperating university. Both researchers are experts in applied social psychology and survey research.

1. Participants will first complete a questionnaire focused on concern about fire, knowledge about fire, values similarity with the Forest Service, trust, objectives for fire management, personal experience with fire, stressors of fire and fire risk, responsibility for risk reduction, accomplishment of risk reduction, future orientation, and sociodemographics. Then, participants will be guided through a discussion on the following topics: objectives/values and concerns in fire management, alternatives for accomplishing objectives, values/goals and trust, and information needs and interests.

2. All residents age 18 or older residing in the 4 selected communities will be invited to participate. Invitation will arrive by mail. Two sessions will be held in each community in order to accommodate as many participants as possible. Responses will be voluntary and confidential.

3. Responses will be used to evaluate the values linked to fire and fire management among forest community residents, their personal experiences with fire and how they have addressed fire risk, perceived responsibility and accomplishments in addressing fire risk, and personal characteristics that might influence these responses. The information should shed light on residents' perceptions and expectations for fire management and on the role of fire risk and how they address it in their lives. Results will be provided to resource managers on the forest who can use the information to help them determine the role of public opinion in selection of fire management strategies (long- and short-term) as well as in forming information that can be provided to various publics about fire and fire management.

Without the proposed information collection managers will have to rely on the scant information available on public views regarding fire and fire management, and the anecdotal information collected through their direct experiences with publics regarding impacts of fire and fire risk. This information will help the researchers supply information to natural resource managers and can also be shared with other researchers who are focusing their own work on natural resource management values and objectives, as well as fire management specifically.

Estimate of Annual Burden: The average annual burden estimated per respondent is 120 minutes, and with an estimated 50 participants from each of 4 communities, the annual burden is 400 hours. An additional 66 hours is added to the burden for scheduling of participants into sessions. Total is 466 hours.

Type of Respondents: Respondents will be community residents residing within the selected locations within or adjacent to the San Bernardino National Forest.

Estimated Annual Number of Respondents: Two hundred participants are expected in the focus group and survey portions of the study. As many as 800 individuals may be involved in the contacts for scheduling and invitation purposes.

Estimated Annual Number of Responses per Respondent: A maximum of two responses per year per respondent are expected. One for the scheduling into a session and one for participation.

Estimated Total Annual Burden on Respondents: The annual burden on respondents that is estimated for this information collection is 466 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: May 28, 2004.
Ann M. Bartuska,
Deputy Chief for Research and Development.

[FR Doc. 04-12813 Filed 6-4-04; 8:45 am]

BILLING CODE 3410-11-P